DEPARTMENT OF EDUCATION

34 CFR Chapter III

[ED-2023-OSERS-0175]

Final Waiver and Extension of the Project Period With Funding for Rehabilitation Long-Term Training Grants

AGENCY: Office of Special Education and Rehabilitative Services (OSERS), Department of Education.

ACTION: Final waiver and extension of project period with funding.

SUMMARY: The Secretary waives the requirements in the Education Department General Administrative Regulations that generally prohibit project periods exceeding five years and project period extensions involving the obligation of additional Federal funds. The waiver and extension enables 51 projects under Assistance Listing Numbers (ALN) 84.129B, 84.129H, 84.129P, and 84.129Q to receive funding for an additional period, not to exceed September 30, 2025.

DATES: The waiver and extension of the project periods are effective December 27, 2023.

FOR FURTHER INFORMATION CONTACT: Karen Holliday Young, U.S. Department of Education, 400 Maryland Avenue SW, Room 4A10, Washington, DC 20202. Telephone: 202-245-7318. Email: Karen.Holliday@ed.gov.

If you are deaf, hard of hearing, or have a speech disability and wish to access telecommunications relay services, please dial 7-1-1.

SUPPLEMENTARY INFORMATION: On October 3, 2023, the Department published in the Federal Register (88 FR 67953) a proposal to waive and extend the project period with funding in order to enable 51 projects under Assistance Listing Numbers (ALN) 84.129B, 84.129H, 84.129P, and 84.129Q to receive continuation funding for an additional 12-month period, not to exceed September 30, 2025. The proposed waiver and extension of the project period with funding would allow the Department to align with the 33 ALN 84.129B grant projects funded in FY 2020 that will receive their final year of funding in FY 2024 with a September 30, 2025, performance period ending date. There are no differences between the proposed waiver and extension of the project period with funding and this final waiver and extension of the project period with funding.

Public Comment

In response to our invitation in the proposed waiver and extension of the project period with funding, one party submitted comments. Although the commenter expressed strong support for the proposed waiver and the extension of the project period with funding, the discussion the commenter provided relates to the Innovation Rehabilitation Training grants, which fund projects that develop training products and programs in providing rehabilitation services to individuals with disabilities, rather than the Rehabilitation Long-Term Training grants, which are the subject of this notice, under which projects are funded to provide stipend support to scholars pursuing a degree or certificate in the field of rehabilitation counseling.

Generally, we do not address technical and other minor changes or suggested changes the law does not authorize us to make under the applicable statutory authority. In addition, we do not address general comments that raise concerns not directly related to the proposed waiver and extension with funding.

Final Waiver and Extension of the Project Period With Funding

The Department believes aligning the projects' period of performance for ALNs 84.129B, 84.129H, 84.129P, and 84.129Q is in the best interest of the public, as the extension reduces financial and administrative burden by allowing the Department to conduct a single competition for ALNs 84.129B, 84.129H, 84.129P and 84.129Q grants in FY 2025, with a five-year performance period that would run from October 1, 2025, through September 30, 2030.

Consequently, the Secretary waives the requirements in 34 CFR 75.250, which prohibit project periods exceeding five years, as well as the requirements in 34 CFR 75.261(a) and (c)(2), which allow the extension of a project period only if the extension does not involve the obligation of additional Federal funds. This waiver allows the Department to issue a one-year FY 2024 continuation award to each of the 51 currently funded FY 2019 84.129B, 84.129H, 84.129P, and 84.129Q projects. Any activities carried out during the year of this continuation award must be consistent with the scope, goals, and objectives of the grantees' applications as approved in the FY 2019 competition. The requirements for continuation awards are set forth in 34 CFR 75.253.

Regulatory Flexibility Act Certification

The Secretary certifies that the proposed waiver and extension of the project period with funding would not have a significant economic impact on a substantial number of small entities. The only entities that would be affected by the proposed waiver and extension of the project period are the 51 grants that were awarded in FY 2019 under ALNs 84.129B, 84.129H, 84.129P, and 84.129Q.

The Secretary certifies that the proposed waiver and extension of the project period with funding would not have a significant economic impact on these entities because the extension of an existing project period imposes minimal compliance costs, and the activities required to support the additional year of funding would not impose additional regulatory burdens or require unnecessary Federal supervision.

Paperwork Reduction Act of 1995

This final waiver and extension of the project period with funding does not contain any information collection requirements.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document provides final notification of our specific plans and actions for these programs.

Accessible Format: On request to the program contact person listed under FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Danté Allen,
Commissioner, Rehabilitation Services Administration, Office of Special Education and Rehabilitative Services.

[FR Doc. 2023-28490 Filed 12-26-23; 8:45 am]

BILLING CODE 4000-01-P